DEPARTMENT OF ENERGY

Federal Energy Regulatory Commission

[Docket No. RP01-107-001]

Viking Gas Transmission Company; Notice of Compliance Filing

November 28, 2000.

Take notice that on November 22, 2000, Viking Gas Transmission Company (Viking) tendered for filing as part of its FERC Gas Tariff, First Revised Volume No. 1, the following tariff sheets, with an effective date of January 1, 2001:

Twenty-Third Revised Sheet No. 6

Sixteenth Revised Sheet No. 6A

Sixth Revised Sheet No. 6B

Viking states that the purpose of the filing is to change Viking's Gas Research Institute Adjustment (GRI) in accordance with the Commission's September 19, 2000 letter order in Docket No. RP00-313-000.

Viking states that copies of the filing is being mailed to each of Viking's customers and to interested state commissions as well as to the parties listed on the Secretary's official service list for this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30733 Filed 12-1-00; 8:45 am]

BILLING CODE 6717-01-M